DEPARTMENT OF THE INTERIOR

National Park Service

[NPS-WASO-NAGPRA-NPS0024178; PPWOCRADN0-PCU00RP14.R50000]

Notice of Inventory Completion: U.S. Department of Agriculture, Forest Service, Chugach National Forest, Anchorage, AK

AGENCY: National Park Service, Interior.

ACTION: Notice.

SUMMARY: The U.S. Department of Agriculture (USDA), Forest Service, Chugach National Forest, has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Chugach National Forest. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Chugach National Forest at the address in this notice by January 5, 2018.

ADDRESSES: Terri Marceron, Chugach National Forest, 161 East 1st Avenue, Door 8, Anchorage, AK 99501, telephone (907) 743-9525, email tmarceron@fs.fed.us.

SUPPLEMENTARY INFORMATION: Notice is here given in accordance with the Native American Graves Protection and Repatriation Act (NAGPRA), 25 U.S.C. 3003, of the completion of an inventory of human remains under the control of the Chugach National Forest, Anchorage, AK. The human remains were removed from Crafton Island, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Chugach National Forest professional staff in consultation with representatives of the Native Village of Chenega (aka Chanega), Native Village of Eyak (Cordova), and Native Village of Tatitlek, and representatives of the Chugach Alaska Corporation, which is not an Indian Tribe.

History and Description of the Remains

In 2005, as part of an Archaeological Resources Protection Act (ARPA) incident, Chugach National Forest Law Enforcement staff seized human remains representing, at minimum, one individual, at a cabin on Peak Island, AK. According to case records, the person claiming ownership of the human remains stated that they had been collected from a cave on Crafton Island, in Prince William Sound circa 1958. Based on size and shape, these human remains likely belong to a female. No known individual was identified. No associated funerary objects are present.

Crafton Island is in an area that was extensively investigated in the early 1930's. De Laguna (1956) reports that caves in the vicinity had been looted as early as 1934. Historical documents, excavation records, and archeological evidence indicate occupation sites in this area are pre-contact Chugach, and that it has been the traditional burial grounds of the Chugach people since pre-contact times. The present-day Indian Tribes represented at the Native Village of Chenega (aka Chanega) and the Native Village of Tatitlek descended from the earlier Chugach at Crafton Island. Additionally, the Native Village of Eyak (Cordova) may have had an association at Crafton Island.

Determinations Made by the USDA Forest Service, Chugach National Forest

Officials of the USDA Forest Service, Chugach National Forest have determined that:

• Pursuant to 25 U.S.C. 3001(9), the human remains described in this notice represent the physical remains of one individual of Native American ancestry.

• Pursuant to 25 U.S.C. 3001(2), there is a relationship of shared group identity that can be reasonably traced between the Native American human remains and contemporary communities represented by the Native Village of Chenega (aka Chanega), Native Village of Eyak (Cordova), and Native Village of Tatitlek.

Additional Requestors and Disposition

Lineal descendants or representatives of any Indian Tribe or Native Hawaiian organization not identified in this notice that wish to request transfer of control of these human remains should submit a written request with information in support of the request to Terri Marceron, Chugach National Forest, 161 East 1st Avenue, Door 8, Anchorage, AK 99501, telephone (907) 743-9525, email tmarceron@fs.fed.us, by January 5, 2018. After that date, if no additional requestors have come forward, transfer of control of the human remains to the Native Village of Eyak (Cordova), the Native Village of Chenega (aka Chanega), and the Native Village of Tatitlek may proceed. By signed delegated authority, and on behalf of the Native Village of Eyak, the Native Village of Chenega, and the Native Village of Tatitlek, the Chugach Alaska Corporation will accept physical custody of the human remains.

The USDA Forest Service, Chugach National Forest, is responsible for notifying the Native Village of Chenega (aka Chanega), Native Village of Eyak (Cordova), and Native Village of Tatitlek, and the Chugach Alaska Corporation that this notice has been published.

Dated: September 20, 2017.
Melanie O'Brien,
Manager, National NAGPRA Program.

[FR Doc. 2017-26287 Filed 12-5-17; 8:45 am]

BILLING CODE 4312-52-P